DEPARTMENT OF HEALTH AND HUMAN SERVICES

Centers for Medicare & Medicaid Services

[CMS-1236-N]

Medicare Program; September 15 and 16, 2003, Meeting of the Practicing Physicians Advisory Council and Request for Nominations

AGENCY: Centers for Medicare & Medicaid Services (CMS), HHS.

ACTION: Notice.

SUMMARY: In accordance with section 10(a) of the Federal Advisory Committee Act, this notice announces a meeting of the Practicing Physicians Advisory Council (the Council) and invites all organizations representing physicians to submit nominees for membership on the Council. There will be several vacancies on the Council as of February 28, 2004. The Council will be meeting to discuss certain proposed changes in regulations and carrier manual instructions related to physicians' services, as identified by the Secretary of the Department of Health and Human Services (the Secretary). These meetings are open to the public.

Meeting Registration: Persons wishing to attend this meeting must register for the meeting at least 72 hours in advance by contacting one of the Designated Federal Officials (DFO): Diana Motsiopoulos, by e-mail at dmotsiopoulos@cms.hhs.gov, or by telephone at (410) 786-3379; or Keri Boston, by e-mail at kboston@cms.hhs.gov, or by telephone at 410-786-6631. Persons who are not registered in advance will not be permitted into the Humphrey Building, and thus will not be able to attend the meeting. Persons attending the meeting will be required to show a photographic identification, preferably a valid driver's license, before entering the building.

DATES: The meeting is scheduled for September 15, 2003 from 8:30 a.m. until 5 p.m. e.d.t. and September 16, 2003 from 8:30 a.m. until 1 p.m. e.d.t.

ADDRESSES: The meeting will be held in Room 800, at the Hubert H. Humphrey Building, 200 Independence Avenue, SW., Washington, DC 20201.

Nominations: Nominations will be considered if received at the appropriate address, no later than 5 p.m. e.d.t., September 30, 2003. Mail or deliver nominations to the following address: Centers for Medicare & Medicaid Services, Center for Medicare Management, Division of Provider Relations and Evaluations, Attention: Diana Motsiopoulos, Designated Federal Official, Practicing Physicians Advisory Council, 7500 Security Boulevard, Mail Stop C4-11-27, Baltimore, MD 21244-1850.

FOR FURTHER INFORMATION CONTACT: Kenneth Simon, M.D., Executive Director, Practicing Physicians Advisory Council, 7500 Security Boulevard, Mail Stop C4-10-07, Baltimore, MD 21244-1850, (410) 786-3379. Please refer to the CMS Advisory Committees Information Line: (1-877-449-5659 toll free)/(410-786-9379 local) or the Internet at http://www.cms.hhs.gov/faca/ppac/default.asp for additional information and updates on committee activities. News media representatives should contact the CMS Press Office, (202) 690-6145.

SUPPLEMENTARY INFORMATION: The Secretary of the Department of Health and Human Services (the Secretary) is mandated by section 1868 of the Social Security Act (the Act) to appoint a Practicing Physicians Advisory Council (the Council) based on nominations submitted by medical organizations representing physicians. The Council meets quarterly to discuss certain proposed changes in regulations and carrier manual instructions related to physicians' services, as identified by the Secretary. To the extent feasible and consistent with statutory deadlines, the consultation must occur before publication of the proposed changes. The Council submits an annual report on its recommendations to the Secretary and the Administrator of the Centers for Medicare & Medicaid Services not later than December 31 of each year.

The Council consists of 15 physicians, each of whom has submitted at least 250 claims for physicians' services under Medicare in the previous year. Members of the Council include both participating and nonparticipating physicians, and physicians practicing in rural and underserved urban areas. At least 11 members of the Council must be physicians described in section 1861(r)(1) of the Act; that is, State-licensed doctors of medicine or osteopathy. The remaining 4 members may include dentists, podiatrists, optometrists, and chiropractors. Members serve for overlapping 4-year terms; terms of more than 2 years are contingent upon the renewal of the Council by appropriate action before its termination. Section 1868(a) of the Act provides that nominations to the Secretary for Council membership must be made by medical organizations representing physicians.

The Council held its first meeting on May 11, 1992. The current members are: James Bergeron, M.D.; Ronald Castallanos, M.D.; Rebecca Gaughan, M.D.; Carlos R. Hamilton, M.D.; Joseph Heyman, M.D.; Dennis K. Iglar, M.D.; Christopher Leggett, M.D.; Joe Johnson, D.O.; Barbara McAneny, M.D.; Angelyn L. Moultrie-Lizana, D.O.; Laura B. Powers, M.D.; Michael T. Rapp, M.D.; Amilu Rothhammer, M.D.; Robert L. Urata, M.D.; and Douglas L. Wood, M.D. Council members will be updated on the status of recommendations made during the past year.

The agenda will provide for discussion and comment on the following topics:

• Physician's Regulatory Issues Team (PRIT) update.

• Physicians Group Practice Demonstrations and proposals for future demonstrations.

• Lowering Medicare Costs: Regions or Beneficiaries?

• Provider Enrollment.

• Authority for Policies on Coverage Procedures and Devices Results in Inequities.

• Practice Patterns for Physicians.

• Doctors' Office Quality Update.

• Overview Prescription Drug Benefit.

• Health Insurance Portability and Accountability Act.

• Limited English Proficiency Requirement.

• Revisions to the Average Wholesale Price Methodology Regulation.

For additional information and clarification on the topics listed, call the contact person in the FOR FURTHER INFORMATION CONTACT section of this notice.

Individual physicians or medical organizations that represent physicians wishing to make 5-minute oral presentations on agenda issues should contact one of the Designated Federal Officials by 12 noon, Friday, September 5, 2003, to be scheduled. Testimony is limited to agenda topics. The number of oral presentations may be limited by the time available. A written copy of the presenter's oral remarks should be submitted to Diana Motsiopoulos at dmotsiopoulos@cms.hhs.gov no later than 12 noon, September 5, 2003, for distribution to Council members for review before the meeting. Physicians and organizations not scheduled to speak may also submit written comments to the Executive Director and Council members. The meeting is open to the public, but attendance is limited to the space available. Individuals requiring sign language interpretation for the hearing impaired or other special accommodation should contact Diana Motsiopoulos at dmotsiopoulos@cms.hhs.gov or (410) 786-3379 at least 10 days before the meeting.

This notice also serves as an invitation to all organizations representing physicians to submit nominees for membership on the Council. Each nomination must state that the nominee has expressed a willingness to serve as a Council member and must be accompanied by a short resume or description of the nominee's experience. To permit an evaluation of possible sources of conflicts of interest, potential candidates will be asked to provide detailed information concerning financial holdings, consultant positions, research grants, and contracts. Section 1868(b) of the Act provides that the Council meet quarterly to discuss certain proposed changes in regulations and manual issuances that relate to physicians' services, identified by the Secretary. Council members are expected to participate in all meetings. Section 1868(c) of the Act provides for payment of expenses and a per diem allowance for Council members at a rate equal to payment provided members of other advisory committees. In addition to making these payments, the Department of Health and Human Services/Centers for Medicare & Medicaid Services provides management and support services to the Council. The Secretary will appoint new members to the Council from among those candidates determined to have the expertise required to meet specific agency needs and in a manner to ensure appropriate balance of the Council's membership.

Authority: (Sec. 1868 of the Social Security Act (42 U.S.C. 1395ee) and sec. 10(a) of Pub. L. 92-463 (5 U.S.C. App. 2, sects. 10(a) and 14).

(Catalog of Federal Domestic Assistance Program No. 93.773, Medicare—Hospital Insurance; and Program No. 93.774, Medicare—Supplementary Medical Insurance Program)
Dated: August 7, 2003.
Thomas A. Scully,
Administrator, Centers for Medicare & Medicaid Services.

[FR Doc. 03-21442 Filed 8-21-03; 8:45 am]

BILLING CODE 4120-01-P